DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Pub. L. 92-463), the Centers for Disease Control and Prevention (CDC) announces the following Federal advisory committee meetings.

Name: National Vaccine Advisory Committee (NVAC).

Times and Dates: 9 a.m.-2 p.m., June 4, 2002. 8:30 a.m.-3 p.m., June 5, 2002.

Place: Hubert H. Humphrey Building, Room 505A, 200 Independence Avenue, SW, Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters to be Discussed: Agenda items will include: a report from the National Vaccine Program Office (NVPO) and the Interagency Vaccine Workgroup; a report from the Assistant Secretary for Health; discussions on compensation for vaccine administration by the Center for Medicare and Medical Services, the American Academy of Pediatrics, and American College of Physicians; a discussion of current issues involving the supply of vaccines and a report on the Vaccine Supply Workshop; a discussion on the global supply of pandemic influenza vaccine; a discussion on the future of rotavirus vaccine; reports from the NVAC Subcommittees; a presentation on increasing public participation in dialogue and deliberation about vaccines; a discussion of issues and NVAC role regarding travelers' vaccines; a report on the Workshop on Implementing Immunization Recommendations; reports from the Advisory Committee on Immunization Practices/NVAC Smallpox Working Group, the Advisory Commission on Childhood Vaccines/Division of Vaccine Injury Compensation, the Vaccine and Related Biological Products Advisory Committee/Food and Drug Administration, and the Advisory Committee on Immunization Practices/National Immunization Program, Centers for Disease Control and Prevention.

Name: Subcommittee on Future Vaccines.

Time and Date: 2 p.m.-5 p.m., June 4, 2002.

Place: Hubert H. Humphrey Building, Room 305A, 200 Independence Avenue, SW, Washington, DC 20201.

Status: Open to the public, limited only by the space available.

Purpose: This subcommittee develops policy options and guides national activities that lead to accelerated development, licensure, and the best use of new vaccines in the simplest possible immunization schedules.

Matters to be Discussed: Agenda items will include Pneumococcal Disease Prevention in Adults-Workshop planning; and, discussion topics for future Subcommittee meetings.

Name: Subcommittee on Immunization Coverage.

Time and Date: 2 p.m.-5 p.m., June 4, 2002.

Place: Hubert H. Humphrey Building, Room 505A, 200 Independence Avenue, SW, Washington, DC 20201.

Status: Open to the public, limited only by the space available.

Purpose: This subcommittee will identify and propose solutions that provide a multifaceted and holistic approach to reducing barriers that result in low immunization coverage for children.

Matters to be Discussed: Agenda items will include an update on the publication of the newly revised Adult and Pediatric Standards; an update on the Workshop on Implementing Immunization Recommendations; discussion on the impact of vaccine shortages on coverage and the assessment of coverage; an update on the IOM Study on Financing Vaccines; and a discussion of pertinent areas for Unmet Needs funding.

Name: Subcommittee on Vaccine Safety and Communication.

Time and Date: 2 p.m.-5 p.m., June 4, 2002.

Place: Hubert H. Humphrey Building, Room 325A, 200 Independence Avenue, SW, Washington, DC 20201.

Status: Open to the public, limited only by the space available.

Purpose: This subcommittee reviews issues relevant to vaccine safety and adverse reactions to vaccines.

Matters to be Discussed: A report on the Clinical Immunization Safety Assessment Centers; a report and discussion of the IOM Vaccine Safety Committee Report on Hepatitis B Vaccine and Neurological Disorders; and a discussion of future focus areas for the IOM Vaccine Safety Committee.

Agenda items are subject to change as priorities dictate.

Contact Person for More Information: Gloria Sagar, Committee Management Specialist, NVPO, CDC, 4700 Buford Highway M/S K-77, Chamblee, Georgia 30341, telephone 770/488-2040.

The Director, Management Analysis and Services Office, has been delegated the authority to sign Federal Register notices pertaining to announcements of meetings and other committee management activities for both the Centers for Disease Control and Prevention and the Agency for Toxic Substances and Disease Registry.

Dated: May 9, 2002.
Alvin Hall,
Acting Director, Management Analysis and Services Office, Centers for Disease Control and Prevention.

[FR Doc. 02-12236 Filed 5-15-02; 8:45 am]

BILLING CODE 4163-18-P